DEPARTMENT OF AGRICULTURE

Forest Service

Plumas National Forest; Plumas County, CA; Empire Vegetation Management Project

AGENCY: Forest Service, USDA.

ACTION: Notice of intent to prepare a supplement to the environmental impact statement.

SUMMARY: The Forest Service will prepare a supplement to the Empire Vegetation Management Project Final Environmental Impact Statement. This supplement will replace the 2006 supplement. This supplement will clarify Management Indicator Species and soil and watershed effects. In addition, the supplement will take into account field data and information gathered since 2005. It will also incorporate information presented in the 2006 supplement and the 2005 Final Environmental Impact Statement.

DATES: Scoping is not required for supplements to environmental impact statements (40 CFR 1502.9(c)4(4)). The draft supplemental environmental impact statement is expected to be issued in February 2007 and the final supplemental environmental impact statement is expected in May 2007.

ADDRESSES: Plumas National Forest, 159 Lawrence Street, P.O. Box 11500, Quincy, CA 95971; Mount Hough Ranger District, 39696 Highway 70, Quincy, CA 95971.

FOR FURTHER INFORMATION CONTACT: Gary Rotta, Interdisciplinary Team Leader, Mt. Hough Ranger District 39696 Highway 70, Quincy, CA 95971 (530) 283-7687.

SUPPLEMENTARY INFORMATION: The first notice of intent for this project was published in the Federal Register on February 9, 2005. The Notice of Availability for the Draft Environmental Impact Statement was published on May 20, 2005. A Final Environmental Impact Statement (2005 FEIS) and Record of Decision were issued on August 9, 2005. The decision was appealed and later reversed on November 18, 2005.

At the request of the Forest Supervisor, the Federal Register published a Notice of Intent on December 28, 2005 to prepare a supplement to the Final Environmental Impact Statement. The Federal Register published a Notice of Availability of a Draft Supplemental Environmental Impact Statement on February 24, 2006. A Final Supplemental Environmental Impact Statement and Record of Decision were issued in August 2006. The project was appealed again and the Forest Supervisor withdrew his August 2006 Record of Decision.

Purpose and Need for Action

The purpose and need remain the same as was described in the 2005 FEIS. The purpose of and need for the project has three elements: (1) To implement fuel reduction in the Wildland Urban Interface (WUI) and, as part of the larger HFQLG fuel treatment strategic network as called for by the HFQLG Act (Section 401[b][1] and [d][1] and HFQLG amendment to the LRMP, to reduce the potential size and intensity of wildfires and provide fire suppression personnel safe locations for taking action against wildfires; (2) to implement group selection and individual tree selection, as directed in the HFQLG Act (Section 401[b][1] and [d][2]) and the HFQLG amendment to the LRMP, to test the effectiveness of an uneven-aged silvicultural system in achieving an all-aged, multistory, fire resilient forest, providing an adequate timber supply that contributes to the economic stability of rural communities, and improving and maintaining ecological health of the forest; and (3) to reduce impacts of the transportation system on forest resources and provide the necessary access for the fuel treatments and the group and individual tree selection harvests.

Proposed Action

The proposed action will remain the same as described in the 2005 FEIS.

Possible Alternatives

Alternatives include varied levels of fuel treatments, group selection timber harvest, individual tree selection harvest and transportation system improvement.

Responsible Official

Jim Peña, Forest Supervisor, Plumas National Forest, PO Box 11500, Quincy, CA 95971.

Nature of Decision To Be Made

The responsible official will decide whether to implement the proposed action, an alternative to the proposed action, or not to implement the project at this time.

Early Notice of Importance of Public Participation in Subsequent Environmental Review: A draft supplemental environmental impact statement will be prepared for comment. The comment period on the draft supplemental environmental impact statement will be 45 days from the date the Environmental Protection Agency publishes the notice of availability in the Federal Register.

The Forest Service believes, at this early stage, it is important to give reviewers notice of several court rulings related to public participation in the environmental review process.

First, reviewers of draft supplemental environmental impact statements must structure their participation in the environmental review of the proposal so that it is meaningful and alerts an agency to the reviewer's position and contentions. Vermont Yankee Nuclear Power Corp. v. NRDC, 435 U.S. 519, 553 (1978). Also, environmental objections that could be raised at the draft supplemental environmental impact statement stage but that are not raised until after completion of the final supplemental environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final supplemental environmental impact statement.

To assist the Forest Service in identifying and considering issues and concerns on the proposed action, comments on the draft supplemental environmental impact statement should be as specific as possible. It is also helpful if comments refer to specific pages of the draft supplement. Comments may also address the adequacy of the draft supplemental environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: January 26, 2007.
Elizabeth A. Taylor,
Acting Forest Supervisor.

[FR Doc. 07-458 Filed 2-1-07; 8:45 am]

BILLING CODE 3410-11-M